DEPARTMENT OF LABOR

Office of the Secretary

Submission for OMB Review; Comment Request

October 15, 2001.

The Department of Labor (DOL) has submitted the following public information collection requests (ICRs) to the Office of Management and Budget (OMB) for review and approval in accordance with the Paperwork Reduction Act of 1995 (Pub. L. 104-13, 44 U.S.C. Chapter 35). A copy this ICR, with applicable supporting documentation, may be obtained by calling the Department of Labor. To obtain documentation contact Darrin King at (202) 693-4129 or E-Mail: King-Darrin@dol.gov.

Comments should be sent to Office of Information and Regulatory Affairs, Attn: OMB Desk Officer for ETA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Type of Review: Revision of a currently approved collection.

Title: Alien Claims Activity Report.

OMB Number: 1205-0268.

Affected Public: State, Local, or Tribal Government.

Frequency: Quarterly.

Type of Response: Reporting.

Number of Respondents: 53.

Number of Annual Responses: 212.

Estimated Time Per Respondent: 1 hour.

Total Burden Hours: 212.

Total Annualized Capital/Startup Costs: $0.

Total Annual Costs (operating/maintaining systems or purchasing services): $0.

Description: The information collected on the Form ETA-9016 is authorized by the Social Security Act, Section 303(a)(6) and allows the Secretary of Labor to assess the cost efficiency of the INS Verification System and to determine the national impact of the Immigration Reform and Control Act on the Unemployment Insurance system.

Ira L. Mills,
Departmental Clearance Officer.

[FR Doc. 01-26634 Filed 10-22-01; 8:45 am]

BILLING CODE 4510-30-M